DEPARTMENT OF THE TREASURY

Submission for OMB Review; Comment Request

December 22, 2010.

The Department of the Treasury will submit the following public information collection requirement to OMB for review and clearance under the Paperwork Reduction Act of 1995, Public Law 104-13 on or after the date of publication of this notice. A copy of the submission may be obtained by calling the Treasury Bureau Clearance Officer listed. Comments regarding these information collections should be addressed to the OMB reviewer listed and to the Treasury PRA Clearance Officer, Department of the Treasury, 1750 Pennsylvania Avenue, NW., Suite 11010, Washington, DC 20220.

Dates: Written comments should be received on or before January 28, 2011 to be assured of consideration.

Internal Revenue Service (IRS)

OMB Number: 1545-1575.

Type of Review: Extension without change to a currently approved collection.

Title: REG-116608-97 (TD 8953) (Final) Eligibility Requirements after Denial of the Earned Income Credit.

Abstract: This information is to provide guidance to taxpayers who have been denied the earned income credit (EIC). Under Section 1.32-3, to demonstrate eligibility, the taxpayer must file with Form 1040 a properly completed Form 8862.

Respondents: Individuals or Households.

Estimated Total Burden Hours: 1 hour.

OMB Number: 1545-1903.

Type of Review: Extension without change to a currently approved collection.

Title: REG-124405-03 (TD 9168) (final) Optional 10-Year Writeoff of Certain Tax Preferences.

Abstract: This collection of information is required by the IRS to verify compliance with section 59(e). This information will be used to determine whether the amount of tax has been calculated correctly.

Respondents: Private sector: Businesses or other for-profits.

Estimated Total Burden Hours: 10,000 hours.

OMB Number: 1545-2069.

Type of Review: Extension without change to a currently approved collection.

Title: Form 8283-V Payment Voucher for Filing Fee Under Section 170(f)(13).

Abstract: The Pension Protection Act of 2006 (PL 109-280) provides in section 1213(c) of the Act that taxpayers claiming a deduction for a qualified conservation contribution with respect to the exterior of a building located in a registered historic district in excess of $10,000, must pay a $500 fee to the Internal Revenue Service or the deduction is not allowed.

Respondents: Individuals or Households.

Estimated Total Burden Hours: 690 hours.

OMB Number: 1545-2092.

Type of Review: Extension without change to a currently approved collection.

Title: Taxpayer Advocacy Panel (TAP) Tax Check Waiver.

Abstract: Taxpayer Advocacy Panel (TAP) members must be compliant with their tax obligations and must undergo and pass a tax check in order to be selected as a TAP member. By executing the Tax Check Waiver, the applicant provides information to facilitate conduct of the tax check and authorizes the IRS official conducting the check to release the results, which are otherwise confidential, to the Director of TAP to help in determining the suitability of the applicant for membership on TAP.

Respondents: Individuals or Households.

Estimated Total Burden Hours: 37 hours.

OMB Number: 1545-2176.

Type of Review: Extension without change to a currently approved collection.

Title: REG-134235-08(TD 9501) (Final)—Furnishing Identifying Number of Tax Return Preparer.

Abstract: These proposed regulations amend section 1.6109-2 of the Income Tax Regulations to provide that tax return preparers must furnish a preparer tax identification number (PTIN) on tax returns and claims for refund of tax as prescribed by the Internal Revenue Service in forms, instructions, or other guidance. After the proposed effective date of December 31, 2010, a tax return preparer's social security number may no longer be used as a valid identifying number on tax returns and claims for refund. The proposed regulations provide that tax return preparers shall apply for and regularly renew a PTIN as the IRS prescribes. In addition, under the proposed regulations, the IRS may prescribe in forms, instructions, or other guidance (including regulations) requirements related to applying for or renewing a PTIN. The proposed regulations, and any collection of information required by the regulations, are necessary to accurately identify tax return preparers and the tax returns and refund claims they prepare and to implement and administer provisions of the Internal Revenue Code. TD 9501 published on Sept 30, 2010 contain the final regulations.

Respondents: Private sector: Businesses or other for-profits.

Estimated Total Burden Hours: 1 hour.

Bureau Clearance Officer: Allan Hopkins, Internal Revenue Service, 1111 Constitution Avenue, NW., Washington, DC 20224; (202) 622-6665.

OMB Reviewer: Shagufta Ahmed, Office of Management and Budget, New Executive Office Building, Room 10235, Washington, DC 20503; (202) 395-7873.

Celina Elphage,
Treasury PRA Clearance Officer.

[FR Doc. 2010-32857 Filed 12-28-10; 8:45 am]

BILLING CODE 4830-01-P